DEPARTMENT OF THE INTERIOR

Bureau of Ocean Energy Management

[Docket No. BOEM-2016-0008]

Gulf of Mexico, Outer Continental Shelf (OCS), Western Planning Area (WPA) Oil and Gas Lease Sale 248; MMAA104000

AGENCY: Bureau of Ocean Energy Management (BOEM), Interior.

ACTION: Notice of availability of a record of decision

SUMMARY: BOEM is announcing the availability of a Record of Decision for proposed oil and gas WPA Lease Sale 248. This Record of Decision identifies the Bureau's selected alternative for proposed WPA Lease Sale 248, which is analyzed in the Gulf of Mexico OCS Oil and Gas Lease Sale: 2016; Western Planning Area Lease Sale 248 Final Supplemental Environmental Impact Statement (WPA 248 Supplemental EIS). BOEM has selected the proposed action, which is identified as BOEM's preferred alternative (Alternative A) in the WPA 248 Supplemental EIS. The Record of Decision and associated information are available on the agency's Web site at http://www.boem.gov/nepaprocess/.

FOR FURTHER INFORMATION CONTACT: For more information on the Record of Decision, you may contact Mr. Gary D. Goeke, Bureau of Ocean Energy Management, Gulf of Mexico OCS Region, 1201 Elmwood Park Boulevard (GM 623E), New Orleans, Louisiana 70123-2394. You may also contact Mr. Goeke by telephone at 504-736-3233.

SUPPLEMENTARY INFORMATION: In the WPA 248 Supplemental EIS, BOEM evaluated three alternatives, which are summarized below with regard to proposed WPA Lease Sale 248:

Alternative A—The Proposed Action: This is BOEM's preferred alternative. This alternative would offer for lease all unleased blocks within the proposed WPA lease sale area for oil and gas operations with the following exception: whole and partial blocks within the boundary of the Flower Garden Banks National Marine Sanctuary (i.e., the boundary as of the publication of the WPA 248 Supplemental EIS).

All unleased whole and partial blocks in the WPA that BOEM will offer for leasing in proposed WPA Lease Sale 248 are listed in the document “List of Blocks Available for Leasing,” which is included in the Final Notice of Sale for WPA Lease Sale 248 being published contemporaneously. The proposed WPA lease sale area encompasses nearly all of the WPA's 28.58 million acres. As of June 2016, approximately 23.7 million acres of the proposed WPA lease sale area are unleased. The estimated amount of resources projected to be developed as a result of the proposed WPA lease sale is 0.116-0.200 billion barrels of oil (BBO) and 0.538-0.938 trillion cubic feet (Tcf) of gas.

Alternative B—Exclude the Unleased Blocks Subject to the Topographic Features Stipulation: This alternative would offer for lease all unleased blocks within the proposed WPA lease sale area, as described for the proposed action (Alternative A), but it would exclude from leasing any unleased blocks subject to the Topographic Features Stipulation. The estimated amount of resources projected to be developed under this alternative is 0.116-0.200 BBO and 0.538-0.938 Tcf of gas. The number of blocks that would not be offered under Alternative B represents only a small percentage of the total number of blocks to be offered under Alternative A; therefore, it is expected that the levels of activity for Alternative B would be essentially the same as those projected for the WPA proposed action.

Alternative C—No Action: This alternative is the cancellation of proposed WPA Lease Sale 248 and is identified as the environmentally preferred alternative.

Lease Stipulations—The WPA 248 Supplemental EIS describes all lease stipulations, which are included in the Final Notice of Sale Package. The five lease stipulations for proposed WPA Lease Sale 248 are the Topographic Features Stipulation, the Military Areas Stipulation, the Protected Species Stipulation, the United Nations Convention on the Law of the Sea Royalty Payment Stipulation, and the Stipulation on the Agreement between the United States of America and the United Mexican States Concerning Transboundary Hydrocarbon Reservoirs in the Gulf of Mexico. Several of these lease stipulations have been developed to help mitigate potential impacts from oil and gas activities. All practicable means to avoid or minimize environmental harm from the selected alternative at the lease sale stage are being adopted through application of these stipulations. The stipulations will be added as lease terms where applicable and will therefore be enforceable as part of the lease. Appendix A of the WPA 246 Supplemental EIS, which is incorporated by reference into the WPA 248 Supplemental EIS, provides a list and description of standard post-lease mitigating measures that may be required by BOEM or the Bureau of Safety and Environmental Enforcement as a result of post-lease plan and permit review processes for the Gulf of Mexico OCS Region.

After careful consideration, BOEM has selected the proposed action, which is identified as BOEM's preferred alternative (Alternative A) in the WPA 248 Supplemental EIS. BOEM's selection of the preferred alternative meets the purpose and need for the proposed action, as identified in the WPA 248 Supplemental EIS, and reflects an orderly resource development with protection of the human, marine, and coastal environments while also ensuring that the public receives an equitable return for these resources and that free-market competition is maintained.

Authority: This Notice of Availability of a Record of Decision is published pursuant to the regulations (40 CFR part 1503) implementing the provisions of the National Environmental Policy Act of 1969, as amended (42 U.S.C. 4321 et seq.).

Dated: July 18, 2016.
Abigail Ross Hopper,
Director, Bureau of Ocean Energy Management.

[FR Doc. 2016-17566 Filed 7-22-16; 8:45 am]

BILLING CODE 4310-MR-P